DEPARTMENT OF COMMERCE

International Trade Administration

[A-552-802]

Certain Frozen Warmwater Shrimp From the Socialist Republic of Vietnam: Amended Final Results of Antidumping Duty Administrative Review

AGENCY: Import Administration, International Trade Administration, Department of Commerce.

DATES: Effective Date: October 4, 2010

FOR FURTHER INFORMATION CONTACT: Susan Pulongbarit, or Paul Walker, AD/CVD Operations, Office 9, Import Administration, International Trade Administration, U.S. Department of Commerce, 14th Street and Constitution Avenue, NW., Washington, DC 20230; telephone: (202) 482-4031, or (202) 482-0413.

SUPPLEMENTARY INFORMATION:

Background

On August 9, 2010, the Department of Commerce (“Department”) published in the Federal Register the final results of the fourth administrative review of the antidumping duty order on certain frozen warmwater shrimp from the Socialist Republic of Vietnam (“Vietnam”) for the period from February 1, 2008, through January 31, 2009.¹

¹ See Certain Frozen Warmwater Shrimp from the Socialist Republic of Vietnam: Final Results, Partial Rescission of Antidumping Duty Administrative Review, 75 FR 47771 (August 9, 2010) (“Final Results”).

On August 10, 2010, Minh Phu Seafood Corporation (and its affiliates Minh Qui Seafood Co., Ltd. and Minh Phat Seafood Co., Ltd. (collectively “Minh Phu Group”)), Nha Trang Seaproduct Company (“Nha Trang Seafoods”), and Minh Hai-Joint Stock Seafoods Processing Company (“Seaprodex Minh Hai”) (collectively “Respondents”) filed a timely allegation that the Department made various ministerial errors in the Final Results and requested, pursuant to 19 CFR 351.224, that the Department correct the alleged ministerial errors. No other parties in this proceeding submitted comments on the Department's final margin calculations. Based upon our analysis of the comments and allegations of ministerial errors, we made changes to the margin calculation for Nha Trang Seafoods and the Minh Phu Group, and corrected Seaprodex Minh Hai's separate rate status. Furthermore, as a result of correcting the errors in the margin calculations for Nha Trang Seafoods and the Minh Phu Group, the margin for the companies granted separate-rate status were also revised because the margin for those companies were derived from Nha Trang Seafoods' and the Minh Phu Group's margins.

Scope of the Antidumping Duty Order

The scope of this order includes certain warmwater shrimp and prawns, whether frozen, wild-caught (ocean harvested) or farm-raised (produced by aquaculture), head-on or head-off, shell-on or peeled, tail-on or tail-off, 3535 “Tails” in this context means the tail fan, which includes the telson and the uropods. deveined or not deveined, cooked or raw, or otherwise processed in frozen form.

The frozen warmwater shrimp and prawn products included in the scope of this investigation, regardless of definitions in the Harmonized Tariff Schedule of the United States (“HTS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this investigation. In addition, food preparations, which are not “prepared meals,” that contain more than 20 percent by weight of shrimp or prawn are also included in the scope of this investigation.

Excluded from the scope are: (1) Breaded shrimp and prawns (HTS subheading 1605.20.10.20); 2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) canned warmwater shrimp and prawns (HTS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (“IQF”) freezing immediately after application of the dusting layer. Battered shrimp is a shrimp-based product that, when dusted in accordance with the definition of dusting above, is coated with a wet viscous layer containing egg and/or milk, and par-fried.

The products covered by this investigation are currently classified under the following HTS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTS subheadings are provided for convenience and for customs purposes only and are not dispositive, but rather the written description of the scope of this investigation is dispositive.

Amended Final Results of the Review

The Act defines “ministerial error” as including “errors in addition, subtraction, or other arithmetic function, clerical errors resulting from inaccurate copying, duplication, or the like, and any other type of unintentional error which the administering authority considers ministerial.” See section 751(h) of the Act. After analyzing Respondents' comments, we have determined, in accordance with section 751(h) of the Act and 19 CFR 351.224(e), that we made certain ministerial errors in our calculations for the final results with respect to certain surrogate values for Nha Trang Seafoods, the surrogate SG&A ratio for Nha Trang Seafoods and the Minh Phu Group, and Seaprodex Min Hai's separate rate status. For a detailed discussion of these ministerial errors, as well as the Department's analysis of these errors, see Memorandum to James C. Doyle, through Scot T. Fullerton, from Susan Pulongbarit, regarding “Fourth Antidumping Administrative Review of Frozen Warmwater Shrimp from the Socialist Republic of Vietnam: Ministerial Error Memorandum,” dated concurrently with this notice (“Ministerial Errors Memo”).

Because we have revised the rates for Nha Trang Seafoods and the Minh Phu Group, we are also revising the margin for the companies granted separate-rate status because the margin for those companies was calculated as the simple average of Nha Trang Seafoods' and the Minh Phu Group's margins. In accordance with section 751(h) of the Act, we are amending the final results of the fourth administrative review of certain warmwater shrimp from Vietnam. As a result of correcting the ministerial errors discussed above, we determine that the following dumping margins exist for the period February 1, 2008, through January 30, 2009:

Manufacturer/exporter | Original margin (percent) | Revised margin (percent)
Minh Phu Group:
Minh Phat Seafood Co., Ltd., aka | 2.96 | 2.95
Minh Phat Seafood aka
Minh Phu Seafood Export Import Corporation (and affiliates Minh Qui Seafood Co., Ltd. and Minh Phat Seafood Co., Ltd.) aka
Minh Phu Seafood Corp. aka
Minh Phu Seafood Corporation aka
Minh Qui Seafood aka
Minh Qui Seafood Co., Ltd.
Nha Trang Seaproduct Company (“Nha Trang Seafoods”) ² aka | 5.58 | 4.89
Nha Trang Seafoods aka
Nha Trang Seaproduct Company Nha Trang Seafoods
Bac Lieu Fisheries Company Limited, aka | 4.27 | 3.92
Bac Lieu Fisheries Company Limited (“Bac Lieu”) aka
Bac Lieu Fisheries Joint Stock Company aka
Bac Lieu Fisheries Limited Company aka
Bac Lieu Fisheries Company Limited ³
C.P. Vietnam Livestock Company Limited (“C.P. Vietnam”) aka | 4.27 | 3.92
C.P. Vietnam Livestock Company Limited aka
C.P. Vietnam Livestock Corporation (“C.P. Vietnam”)
Cadovimex Seafood Import-Export and Processing Joint Stock Company (“CADOVIMEX-VIETNAM”) aka | 4.27 | 3.92
Cai Doi Vam Seafood Import-Export Company (“Cadovimex”) aka
Cai Doi Vam Seafood aka
Cai Doi Vam Seafood Im-Ex Company (Cadovimex) aka
Cai Doi Vam Seafood Processing Factory aka
Caidoivam Seafood Company (Cadovimex) aka
Caidoivam Seafood Im-Ex Co.
Cafatex Fishery Joint Stock Corporation (“Cafatex Corp.”) aka | 4.27 | 3.92
Cantho Animal Fisheries Product Processing Export Enterprise (Cafatex), aka
Cafatex, aka
Cafatex Vietnam, aka
Xi Nghiep Che Bien Thuy Suc San Xuat Kau Cantho, aka
Cas, aka
Cas Branch, aka
Cafatex Saigon, aka
Cafatex Fishery Joint Stock Corporation, aka
Cafatex Corporation, aka
Taydo Seafood Enterprise
Cafatex Corp.
Cam Ranh Seafoods Processing Enterprise Company (“Camranh Seafoods”) aka Camranh Seafoods | 4.27 | 3.92
Camau Frozen Seafood Processing Import Export Corporation (“CAMIMEX”) ⁴ aka | 4.27 | 3.92
Camimex aka
Camau Seafood Factory No. 4 aka
Camau Seafood Factory No. 5 aka
Camau Frozen Seafood Processing Import & Export aka
Camau Frozen Seafood Processing Import Export Corp. (CAMIMEX-FAC 25) aka
Frozen Factory No. 4
Can Tho Agricultural and Animal Products Import Export Company (“CATACO”) aka | 4.27 | 3.92
Can Tho Agricultural Products aka
CATACO aka
Can Tho Agricultural and Animal Products Imex Company
Can Tho Import Export Fishery Limited Company (“CAFISH”) | 4.27 | 3.92
Coastal Fishery Development aka | 4.27 | 3.92
Coastal Fisheries Development Corporation (“Cofidec”) aka
COFIDEC aka
Coastal Fisheries Development Corporation aka
Coastal Fisheries Development Co., aka
Coastal Fisheries Development Corp.
Cuulong Seaproducts Company (“Cuu Long Seapro”) aka | 4.27 | 3.92
Cuu Long Seaproducts Limited (“Cuulong Seapro”) aka
Cuulong Seapro aka
Cuulong Seaproducts Company (“Cuulong Seapro”) aka
Cuu Long Seaproducts Company (“Cuu Long Seapro”) aka
Cuu Long Seaproducts Company aka
Cuu Long Seapro aka
Cuulong Seaproducts Company (“Cuu Long Seapro”) aka
Cuu Long Seaproducts Limited (Cuulong Seapro) aka
Cuulong Seapro aka
Cuulong Seaproduct Company
Danang Seaproducts Import Export Corporation (“Seaprodex Danang”) aka | 4.27 | 3.92
Danang Seaproducts Import Export Corporation aka
Danang Seaproduct Import-Export Corporation aka
Danang Seaproducts Import Export aka
Tho Quang Seafood Processing & Export Company aka
Seaprodex Danang aka
Tho Quang Seafood Processing and Export Company aka
Tho Quang, aka
Tho Quang Co.⁵
Gallant Ocean (Vietnam) Co., Ltd. (“Gallant Ocean Vietnam”) | 4.27 | 3.92
Grobest & I-Mei Industrial Vietnam, aka | 4.27 | 3.92
Grobest, aka
Grobest & I-Mei Industrial (Vietnam) Co., Ltd.
Investment Commerce Fisheries Corporation (“Incomfish”) aka | 4.27 | 3.92
Incomfish aka
Investment Commerce Fisheries Corp., aka
Incomfish Corp., aka
Incomfish Corporation aka
Investment Commerce Fisheries aka
Investment Commerce Fisheries Corporation
Kim Anh Company Limited (“Kim Anh”) | 4.27 | 3.92
Minh Hai Export Frozen Seafood Processing Joint Stock Company aka | 4.27 | 3.92
Minh Hai Jostoco aka
Minh Hai Export Frozen Seafood Processing Joint-Stock Company (“Minh Hai Jostoco”) aka
Minh Hai Export Frozen Seafood Processing Joint-Stock Company aka
Minh Hai Joint Stock Seafood Processing Joint-Stock Company aka
Minh Hai Export Frozen Seafood Processing Joint-Stock Co., aka
Minh-Hai Export Frozen Seafood Processing Joint-Stock Company
Minh Hai Joint-Stock Seafoods Processing Company (“Seaprodex Minh Hai”) aka | 4.27 | 3.92
Sea Minh Hai aka
Minh Hai Joint-Stock Seafoods Processing Company aka
Seaprodex Minh Hai aka
Seaprodex Min Hai aka
Seaprodex Minh Hai (Minh Hai Joint Stock Seafoods Processing Co.) aka
Seaprodex Minh Hai Factory aka
Seaprodex Minh Hai Factory No. 69 aka
Seaprodex Minh Hai Workshop 1 aka
Seaprodex Minh Hai-Factory No. 78 aka
Workshop I Seaprodex Minh Hai
Minh Hai Sea Products Import Export Company (“Seaprimex Co”), aka | 4.27 | 3.92
Ca Mau Seafood Joint Stock Company (“SEAPRIMEXCO”) aka
Seaprimexco Vietnam, aka
Seaprimexco
Ca Mau Seafood Joint Stock Company (“Seaprimexco”)
Minh Hai Seaproducts Import Export Corporation
Seaprimexco
Minh Hai Seaproducts Co Ltd. (Seaprimexco)
Ngoc Sinh Private Enterprise aka | 4.27 | 3.92
Ngoc Sinh Seafoods aka
Ngoc Sinh Seafoods Processing and Trading Enterprise aka
Ngoc Sinh Fisheries aka
Ngoc Sinh Private Enterprises aka
Ngoc Sinh Seafoods Processing and Trading Enterprises aka
Ngoc Sinh aka
Ngoc Sinh Seafood Processing Company aka
Ngoc Sinh Seafoods (Private Enterprise)
Nha Trang Fisheries Joint Stock Company (“Nha Trang Fisco”) aka | 4.27 | 3.92
Nha Trang Fisheries Joint Stock Company aka
Nhatrang Fisheries Joint Stock Company aka
Nha Trang Fisco aka
Nhatrang Fisco aka
Nha Trang Fisheries Joint Stock Company (“Nha Trang Fisco”) aka
Nha Trang Fisheries, Joint Stock
Phu Cuong Seafood Processing and Import-Export Co., Ltd. | 4.27 | 3.92
Phuong Nam Co., Ltd. (“Phuong Nam”) aka | 4.27 | 3.92
Western Seafood Processing and Exporting Factory (“Western Seafood”)
Sao Ta Foods Joint Stock Company (“Fimex VN”) aka | 4.27 | 3.92
Sao Ta Foods Joint Stock Company aka
Fimex VN aka
Sao Ta Seafood Factory aka
Saota Seafood Factory
Soc Trang Aquatic Products and General Import Export Company (“Stapimex”) aka | 4.27 | 3.92
Soc Trang Seafood Joint Stock Company (“Stapimex”) aka
Soc Trang Aquatic Products and General Import Export Company aka
Stapimex aka
Soc Trang Aquatic Products and General Import Export Company-(Stapimex) aka
Stapimex Soc Trans Aquatic Products and General Import Export Company aka
Stapmex
Thuan Phuoc Seafoods and Trading Corporation aka | 4.27 | 3.92
Frozen Seafoods Factory No. 32 aka
Seafoods and Foodstuff Factory aka
My Son Seafoods Factory
UTXI Aquatic Products Processing Company aka | 4.27 | 3.92
UT XI Aquatic Products Processing Company aka
UT-XI Aquatic Products Processing Company aka
UTXI aka
UTXI Co. Ltd., aka
Khanh Loi Seafood Factory aka
Hoang Phuong Seafood Factory aka
UTXI Aquatiac Products Processing Corporation (“UTXICO”)
Viet Foods Co., Ltd. aka | 4.27 | 3.92
Nam Hai Foodstuff and Export Company Ltd.
Viet Hai Seafood Co., Ltd. aka | 4.27 | 3.92
Vietnam Fish One Co., Ltd. (“Fish One”)
Vinh Loi Import Export Company (“Vimexco”), aka | 4.27 | 3.92
Vinh Loi Import Export Company (“VIMEX”), aka
VIMEXCO aka
VIMEX aka
Vinh Loi Import/Export Co., aka
Vinhloi Import Export Company aka
Vinh Loi Import-Export Company

The Department will determine and the U.S. Bureau of Customs and Border Protection (“CBP”) shall assess antidumping duties on all appropriate entries. Except where the Court of International Trade has issued a preliminary injunction enjoining the liquidation of certain entries during the period of review, we intend to issue appropriate assessment instructions directly to CBP 15 days after publication of these amended final results of review. For a general discussion of the application of assessment rates, see Final Results, 75 FR at 47776.

² See Letter from Thompson Hine representing the Minh Phu Group, Nha Trang Seafoods, Camimex, and Grobest, to Secretary of Commerce, regarding Certain Frozen Warmwater Shrimp from Vietnam: Case Brief on behalf of Certain Respondents, dated, April 21, 2010 (“Respondents Case Brief”) at 44 for proprietary named used by importer.

³ See Respondents Case Brief at 24 for proprietary name used by importer.

⁴ See Respondents Case Brief at 44 for proprietary names used by importers.

⁵ See Respondents Case Brief at 44 for proprietary names used by importers.

Cash Deposit Requirements

For all shipments of certain warmwater shrimp from Vietnam entered, or withdrawn from warehouse, for consumption on or after the publication date of these Amended Final Results, as provided by section 751(a)(2)(C) of the Act: (1) For companies covered by this review, the cash deposit rate will be the rate listed above; (2) for previously reviewed or investigated companies other than those covered by this review, the cash deposit rate will be the company-specific rate established for the most recent period; (3) if the exporter is not a firm covered in this review, a prior review, or the less-than-fair-value investigation, but the producer is, the cash deposit rate will be the rate established for the most recent period for the manufacturer of the subject merchandise; and (4) if neither the exporter nor the producer is a firm covered in this review, a prior review, or the investigation, the cash deposit rate will be 25.76 percent, the Vietnam-wide rate established in the less-than-fair-value investigation. These deposit requirements shall remain in effect until further notice.

Reimbursement of Duties

This notice also serves as a final reminder to importers of their responsibility under 19 CFR 351.402(f) to file a certificate regarding the reimbursement of antidumping duties prior to liquidation of the relevant entries during this review period. Failure to comply with this requirement could result in the presumption that reimbursement of antidumping duties occurred and the subsequent increase in antidumping duties by the amount of antidumping duties reimbursed.

Administrative Protective Order

This notice also is the only reminder to parties subject to administrative protective order (“APO”) of their responsibility concerning the return or destruction of proprietary information disclosed under APO in accordance with 19 CFR 351.305. Timely written notification of the return/destruction of APO materials or conversion to judicial protective order is hereby requested. Failure to comply with the regulations and the terms of an APO is a sanctionable violation.

These amended final results of administrative review and notice are issued and published in accordance with sections 751(h), and 777(i)(1) of the Act, and 19 CFR 351.224.

Dated: September 29, 2010.
Ronald K. Lorentzen,
Deputy Assistant Secretary for Import Administration.

[FR Doc. 2010-24997 Filed 10-1-10; 8:45 am]

BILLING CODE 3510-DS-P